SECURITIES AND EXCHANGE COMMISSION

Sunshine Act Meeting

Federal Register Citation of Previous Announcement: [69 FR 75360, December 16, 2004].

Status: Open meeting.

Place: 450 Fifth Street, NW., Washington, DC.

Announcement of Additional Meeting: Additional meeting.

An Open Meeting will be held on Wednesday, December 22, 2004 at 10 a.m. in Room 1C30, the William O. Douglas Room.

Commissioner Campos, as duty officer, determined that no earlier notice thereof was possible.

The subject matter of the Open Meeting scheduled for Wednesday, December 22, 2004 will be:

1. The Commission will consider a staff recommendation regarding the application of the Investment Advisers Act of 1940 to certain broker-dealers. (See Proposed Rule, IA-1845, and Reopening of Comment Period, IA-2278).

FOR FURTHER INFORMATION CONTACT: Robert Tuleya, Senior Counsel, Division of Investment Management, at (202) 942-0719.

At times, changes in Commission priorities require alterations in the scheduling of meeting items. For further information and to ascertain what, if any, matters have been added, deleted or postponed, please contact: The Office of the Secretary at (202) 942-7070.

Dated: December 17, 2004.
Jonathan G. Katz,
Secretary.

[FR Doc. 04-28053 Filed 12-17-04; 4:03 pm]

BILLING CODE 8010-01-P